FEDERAL ELECTION COMMISSION

Sunshine Act Notice

AGENCY: Federal Election Commission.

DATE & TIME: Wednesday, November 9, 2011 at 10 a.m.

PLACE: 999 E Street, NW., Washington, DC

STATUS: This Meeting Was Closed to the Public.

ITEMS TO BE DISCUSSED:

Internal personnel rules and procedures or matters affecting a particular employee.

Investigatory records compiled for law enforcement purposes, or information which if written would be contained in such records.

Information the premature disclosure of which would be likely to have a considerable adverse effect on the implementation of a proposed Commission action.

* * * * *

PERSON TO CONTACT FOR INFORMATION: Judith Ingram, Press Officer, Telephone: (202) 694-1220.

Shawn Woodhead Werth,
Secretary and Clerk of the Commission.

[FR Doc. 2011-29599 Filed 11-10-11; 4:15 pm]

BILLING CODE 6715-01-P